OFFICE OF MANAGEMENT AND BUDGET

Acquisition Advisory Panel

AGENCY: Executive Office of the President, Office of Management and Budget.

ACTION: Notice of Federal Advisory Committee meeting.

SUMMARY: Pursuant to the provisions of the Federal Advisory Committee Act (Pub. L. 92-463, as amended), notice is hereby given that the Acquisition Advisory Panel established in accordance with the Services Acquisition Reform Act of 2003 will meet on February 9, 2005 at 9 a.m., eastern time. Location for the meeting will be the Truman Room of the White House Conference Center, 726 Jackson Place, NW., Washington, DC 20503. The meeting is open to the public and written statements may be filed with the panel. Due to limited availability of seating, members of the public will be admitted on a first-come, first-served basis. This is the first meeting of the panel, and will be organizational in nature. Discussion of substantive procurement-related topics is not anticipated.

SUPPLEMENTARY INFORMATION: The purpose of the panel is to provide independent advice and recommendations to the Office of Federal Procurement Policy and Congress pursuant to Section 1423 of the Service Acquisition Reform Act of 2003. The panel's charter is to review Federal contracting laws, regulations, and government-wide policies, including the use of commercial practices, performance-based contracting, performance of acquisition functions across agency lines of responsibility, and government-wide contracts.

Requests for additional information or written statements should be directed to Ms. Laura Auletta, Designated Federal Officer, at laura.auletta@gsa.gov or (202) 208-7279.

Dated: January 21, 2005.
David H. Safavian,
Administrator for Federal Procurement Policy.

[FR Doc. 05-1566 Filed 1-26-05; 8:45 am]

BILLING CODE 3110-01-P